DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Quarterly Survey of State & Local Tax Revenue.

Form Number(s): F-71, F-72, F-73.

Agency Approval Number: 0607-0112.

Type of Request: Extension of a currently approved collection.

Burden: 5,957 hours.

Number of Respondents: 5,906.

Avg Hours Per Response: 15 minutes.

Needs and Uses: The Census Bureau is requesting a three-year extension of the current expiration date of the Quarterly Survey of State & Local Tax Revenue. These tax collections, amounting to nearly $700 billion annually, constitute almost one-half of all governmental revenues. Quarterly measurement of and reporting on these massive fund flows provides valuable insight into trends in the national economy and that of individual states. Information collected on the type and quantity of taxes collected gives comparative data on how the various levels of government fund their public sector obligations. These data are included in the quarterly estimates developed by the Bureau of Economic Analysis and are widely used by state revenue and tax officials, academicians, media representatives, and others.

The Census Bureau uses three forms to collect state and local government tax data for this long established data series. The Quarterly Survey of Property Tax Collections (form F-71) is sent to 5,800 local government tax collecting agencies in 530 county areas. While some counties are served by a single county level tax-collecting agency, others have county, city, township, and even school district collectors. Each agency is asked to report the total property tax collections during the past quarter (regardless of which governments ultimately receive the monies).

Form F-72, State Tax Collections-Quarterly Survey, is sent to a state level revenue, finance, or budget agency in each state to report tax collection data for the preceding 3-month period.

The Quarterly Survey-Selected Local Taxes (form F-73) goes to 55 local tax collecting agencies known to have substantial collections of local general sales and/or local individual income taxes.

Affected Public: State, local or Tribal government.

Frequency: Quarterly.

Respondent's Obligation: Voluntary.

Legal Authority: Title 13 USC, Section 182.

OMB Desk Officer: Susan Schechter, (202) 395-5103.

Copies of the above information collection proposal can be obtained by calling or writing Linda Engelmeier, DOC Forms Clearance Officer, (202) 482-3129, Department of Commerce, room 6086, 14th and Constitution Avenue, NW., Washington, DC 20230 (or via the Internet at LEngelme@doc.gov).

Written comments and recommendations for the proposed information collection should be sent on or before September 6, 2000, to Susan Schechter, OMB Desk Officer, room 10201, New Executive Office Building, Washington, DC 20503.

Dated: August 1, 2000.
Madeleine Clayton,
Management Analyst, Office of the Chief Information Officer.

[FR Doc. 00-19866 Filed 8-4-00; 8:45 am]

BILLING CODE 3510-07-P